DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The National Health Service Corps (NHSC) Scholarship Program In-School Worksheets (OMB No. 0915-0250): Extension

The National Health Service Corps (NHSC) Scholarship program provides scholarships to students in health professions in return for service in a federally-designated Health Professional Shortage Area (HPSA). If awarded an NHSC scholarship, the program requires the schools and the awardees to review and complete data collection worksheets for each year that the student is an NHSC Scholar. The forms provide information on the following: Verification of enrollment status; current curriculum; current contact information; and verification of accuracy of student data. The worksheets require minimal burden and provide the program with information that is required to determine if scholars are maintaining their status of eligibility as required by Federal statute.

The annual estimate of burden is as follows:

Instrument | Number of respondents | Responses per respondent | Total responses | Hours per response (minutes) | Total burden hours
Scholar Worksheet | 800 | 1 | 800 | 10 | 134
School Verification Worksheet | 300 | 1 | 300 | 10 | 50
School Contact Information | 550 | 1 | 550 | 10 | 92
Total | 1,650 |  | 1,650 |  | 276

Send comments to Susan G. Queen, Ph.D., HRSA Reports Clearance Officer, Room 10-33, Parklawn Building, 5600 Fishers Lane, Rockville, MD 20857. Written comments should be received within 60 days of this notice.

Dated: March 15, 2007.
Alexandra Huttinger,
Acting Director, Division of Policy Review and Coordination.

[FR Doc. E7-5293 Filed 3-22-07; 8:45 am]

BILLING CODE 4165-15-P